DEPARTMENT OF TRANSPORTATION

Surface Transportation Board

[STB Ex Parte No. 661 (Sub-No. 1)]

Rail Fuel Surcharges

AGENCY: Surface Transportation Board, DOT.

ACTION: Notice of OMB Approval of Information Collection.

SUMMARY: Pursuant to the Paperwork Reduction Act, 44 U.S.C. 3501 et. seq. (PRA) and Office of Management and Budget (OMB) regulations at 5 CFR 1320.11, the Surface Transportation Board has obtained OMB approval for the collection of information adopted by the Board in Rail Fuel Surcharges, STB Ex Parte No. 661 (Sub-No. 1) (STB served Aug. 14, 2007).

This collection, which is codified at 49 CFR 1243.3, has been assigned OMB Control No. 2140-0014. Unless renewed, OMB approval expires on October 31, 2010. The display of a currently valid OMB control number for this collection is required by law. Under the PRA and 5 CFR 1320.8, an agency may not conduct or sponsor, and a person is not required to respond to, a collection of information unless the collection displays a currently valid OMB control number.

Vernon A. Williams,
Secretary.

[FR Doc. E7-21072 Filed 10-25-07; 8:45 am]

BILLING CODE 4915-01-P